DEPARTMENT OF VETERANS AFFAIRS

[OMB Control No. 2900-0663

Agency Information Collection Activity under OMB Review: Pay Now Enter Info Page

AGENCY: Debt Management Center, Department of Veterans Affairs.

ACTION: Notice.

SUMMARY: In compliance with the Paperwork Reduction Act (PRA) of 1995, this notice announces that the Debt Management Center, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0663.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0165” in any correspondence.

FOR FURTHER INFORMATION CONTACT: John W. Scott, Debt Management Center, Department of Veterans Affairs, 1 Federal Drive, St. Paul, MN 55111, (612) 970-5740 or email John.Scott335@va.gov. Please refer to “OMB Control No. 2900-0663” in any correspondence.

SUPPLEMENTARY INFORMATION:

Authority: Public Law 104-13; 44 U.S.C. 3501-3521.

Title: Pay Now Enter Info Page.

OMB Control Number: 2900-0663.

Type of Review: Reinstatement of a previously OMB approved collection with changes.

Abstract: Claimants who participated in VA's benefits programs and owe debts to VA can voluntarily make online payments through VA”s Pay Now Enter Info Page website. Data entered on Pay Now Enter Info Page is redirected to the Department of Treasury's Pay.gov website allowing claimants to make payments with credit or debit cards, or directly from their bank accounts. At the conclusion of the transaction, the claimant will receive a confirmation acknowledging the success or failure of the transaction.

An agency may not conduct or sponsor, and a person is not required to respond to a collection of information unless it displays a currently valid OMB control number. The Federal Register Notice with a 60-day comment period soliciting comments on this collection of information was published at 85 FR 22 on February 3, 2020 pages 6020 and 6021.

Affected Public: Individuals or Households.

Estimated Annual Burden: 31,261 hours.

Estimated Average Burden Per Respondent: 10 minutes.

Frequency of Response: Daily.

Estimated Number of Respondents: 187,567.

By direction of the Secretary.
Danny S. Green,
VA Clearance Officer, Office of Quality, Performance and Risk, Department of Veterans Affairs.

[FR Doc. 2020-08111 Filed 4-16-20; 8:45 am]

BILLING CODE 8320-01-P